DEPARTMENT OF STATE

[Public Notice 5776]

U.S. National Commission for UNESCO Notice of Open Teleconference Meeting

SUMMARY: The U.S. National Commission for UNESCO will meet via telephone conference on Tuesday, April 24, 2007, from 11:30 a.m. until 12:30 p.m. Eastern Time. The purpose of the teleconference meeting is to consider the recommendations of the Commission's Review Committee on the UNITWIN/UNESCO Chairs Program. The UNESCO Secretariat in Paris has asked to receive recommendations from member states before the end of April, thus this telephone conference is being convened on shorter notice than ordinary meetings of the Commission. The Review Committee was asked to review U.S. applications for the Chairs program, which seeks to foster cooperation between universities in different countries and to promote academic solidarity and the transfer of knowledge. The Commission also plans to discuss activities related to the U.S. National Committee for the Intergovernmental Oceanographic Commission, as well as, discuss applications submitted to join the Associated Schools Project Network—USA list. More information on the National Commission can be found at http://www.state.gov/p/io/unesco. The Commission will accept brief oral comments during a portion of this conference call. Members of the public who wish to present oral comments or to listen to the conference call must make arrangements with the Executive Secretariat of the National Commission by 12 p.m. on April 23, 2007. For more information or to arrange to participate in the teleconference meeting, contact Alex Zemek, Deputy Executive Director of the U.S. National Commission for UNESCO, Washington, DC 20037. Telephone: (202) 663-0026; Fax: (202) 663-0035; E-mail: DCUNESCO@state.gov.

Alex Zemek,
U.S. National Commission for UNESCO, Department of State.

[FR Doc. E7-7178 Filed 4-13-07; 8:45 am]

BILLING CODE 4710-19-P